DEPARTMENT OF HEALTH AND HUMAN SERVICES

Food and Drug Administration

21 CFR Part 558

New Animal Drugs for Use in Animal Feeds

CFR Correction

In Title 21 of the Code of Federal Regulations, Parts 500 to 599, revised as of April 1, 2009, in § 558.55, on page 408, at the end of the table to paragraph (d)(2), reinstate footnote 1 to read as follows:

¹ Bacitracin zinc in § 510.600(c) of this chapter.

[FR Doc. 2010-7095 Filed 3-29-10; 8:45 am]

BILLING CODE 1505-01-D